DEPARTMENT OF TRANSPORTATION

Federal Aviation Administration

Notice of Intent To Rule on Request To Release Airport Property at Klamath Falls Airport, Klamath Falls, OR

AGENCY: Federal Aviation Administration (FAA), DOT.

ACTION: Notice of request to release airport property.

SUMMARY: The FAA proposes to rule and invites public comment on the release of land at Klamath Falls Airport under the provisions of Section 125 of the Wendell H. Ford Aviation Investment Reform Act for the 21st Century (AIR 21), now 49 U.S.C. 47107(h)(2).

DATES: Comments must be received on or before November 28, 2007.

ADDRESSES: Comments on this application may be mailed or delivered to the FAA at the following address: Federal Aviation Administration, Northwest Mountain Region, Airports Division, Seattle Airports District Office, 1601 Lind Avenue, SW., Suite 250, Renton, Washington 98057-3356.

In addition, one copy of any comments submitted to the FAA must be mailed or delivered to Mr. Derek Martin, Airport Director, at the following address: Klamath Falls Airport, 6775 Arnold Avenue, Klamath Falls, OR 97603.

FOR FURTHER INFORMATION CONTACT: Ms. Trang D. Tran, Civil Engineer, Federal Aviation Administration, Northwest Mountain Region, Seattle Airports District Office, 1601 Lind Avenue, SW., Suite 250, Renton, Washington 98057-3356.

The request to release property may be reviewed, by appointment, in person at this same location.

SUPPLEMENTARY INFORMATION: The FAA invites public comment on the request to release property at the Klamath Falls Airport under the provisions of the AIR 21 (49 U.S.C. 47107(h)(2)).

On October 16, 2007, the FAA determined that the request to release property at Klamath Falls Airport submitted by the airport meets the procedural requirements of the Federal Aviation Administration. The FAA may approve the request, in whole or in part, no later than November 28, 2007.

The following is a brief overview of the request: Klamath Falls Airport is proposing the release of approximately 7.89 acres of airport property to the State of Oregon. The revenue generated from the land release will be used to fund Airport Improvement Projects.

Any person may inspect, by appointment, the request in person at the FAA office listed above under FOR FURTHER INFORMATION CONTACT.

In addition, any person may, upon appointment and request, inspect the application, notice and other documents germane to the application in person at Klamath Falls Airport.

Dated: Issued in Renton, Washington on October 16, 2007.
Trang D. Tran,
Seattle Airports District Office.

[FR Doc. 07-5321 Filed 10-26-07; 8:45 am]

BILLING CODE 4910-13-M